DEPARTMENT OF THE INTERIOR

Bureau of Land Management

[WO300 L91310000 PP0000]

Renewal of Approved Information Collection; OMB Control No. 1004-0132

AGENCY: Bureau of Land Management, Interior.

ACTION: 30-Day notice and request for comments.

SUMMARY: The Bureau of Land Management (BLM) has submitted an information collection request to the Office of Management and Budget (OMB) to continue the collection of information from those who wish to participate in the exploration, development, production, and utilization of geothermal resources on BLM-managed public lands, and on lands managed by other Federal agencies. The Office of Management and Budget (OMB) previously approved this information collection activity, and assigned it control number 1004-0132.

DATES: The OMB is required to respond to this information collection request within 60 days but may respond after 30 days. For maximum consideration, written comments should be received on or before January 27, 2017.

ADDRESSES: Please submit comments directly to the Desk Officer for the Department of the Interior (OMB #1004-0132), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: jesonnem@blm.gov.

Please indicate “Attn: 1004-0132” regardless of the form of your comments.

FOR FURTHER INFORMATION CONTACT: John Kalish, at 202-912-7312. Persons who use a telecommunication device for the deaf may call the Federal Relay Service at 1-800-877-8339, to leave a message for Mr. Kalish. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on July 19, 2016 (81 FR 46954), and the comment period ended September 19, 2016. The BLM received no comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0132 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Geothermal Resource Leasing and Geothermal Resource Unit Agreements (43 CFR parts 3200 and 3280).

OMB Control Number: 1004-0132.

Summary: The BLM collects the information in order to decide whether or not to approve geothermal resource leases and unit agreements, process nominations for geothermal lease sales, and monitor compliance with granted approvals.

Frequency of Collection: On occasion, except for Monthly Report of Geothermal Operations (Form 3260-5), which is required monthly.

Forms:

• Form 3200-9, Notice of Intent to Conduct Geothermal Resource Exploration Operations;

• Form 3203-1, Nomination of Lands for Competitive Geothermal Leasing;

• Form 3260-2, Geothermal Drilling Permit;

• Form 3260-3, Geothermal Sundry Notice; and

• Form 3260-4; Geothermal Well Completion Report; and

• Form 3260-5; Monthly Report of Geothermal Operations.

Description of Respondents: Those who wish to participate in the exploration, development, production, and utilization of geothermal resources on BLM-managed by other Federal agencies.

Estimated Annual Responses: 913.

Estimated Annual Burden Hours: 5,409.

Estimated Annual Non-Hour Costs: $83,260.

The estimated burdens are itemized in the following table:

Type of response | Number of responses | Hours per response | Total hours
A | B | C | D
43 CFR subpart 3202—Lessee Qualifications | 75 | 1 | 75
43 CFR subpart 3203—Nomination of Lands for Competitive Leasing, Form 3203-1 | 80 | 1 | 80
43 CFR subpart 3204—Noncompetitive Leasing Other Than Direct Use Leases | 50 | 4 | 200
43 CFR subpart 3205—Direct Use Leasing | 10 | 10 | 100
43 CFR subpart 3206—Lease Issuance | 155 | 1 | 155
43 CFR subpart 3207—Lease Terms and Extensions | 50 | 1 | 50
43 CFR subpart 3210—Lease Consolidation | 50 | 1 | 50
43 CFR subpart 3212—Lease Suspensions and Royalty Rate Reductions | 10 | 40 | 400
43 CFR subpart 3213—Lease Relinquishment, Termination, and Cancellation | 10 | 40 | 400
43 CFR subpart 3213—Lease Reinstatement | 5 | 1 | 5
43 CFR subpart 3217—Cooperative Agreements | 10 | 40 | 400
43 CFR subpart 3251—Notice of Intent to Conduct Geothermal Exploration Activities, Form 3200-9 | 12 | 8 | 96
43 CFR subpart 3252—Geothermal Sundry Notice, Form 3260-3 | 100 | 8 | 800
43 CFR subpart 3253—Reports: Exploration Operations | 12 | 8 | 96
43 CFR subpart 3256—Exploration Operations Relief and Appeals | 10 | 8 | 80
43 CFR subpart 3261—Geothermal Drilling Permit, Form 3260-2 | 60 | 8 | 480
43 CFR subpart 3264—Geothermal Well Completion Report, Form 3260-4 | 12 | 10 | 120
43 CFR subpart 3272—Utilization Plans and Facility Construction Permits | 10 | 10 | 100
43 CFR subpart 3273—Site License Application | 10 | 10 | 100
43 CFR subpart 3273—Relinquishment, Assignment, or Transfer of a Site License | 22 | 1 | 22
43 CFR subpart 3274—Commercial Use Permit | 10 | 10 | 100
43 CFR subpart 3276—Monthly Report of Geothermal Operations, Form 3260-5 | 120 | 10 | 1200
43 CFR subpart 3281—Unit Agreements | 10 | 10 | 100
43 CFR subpart 3282—Participating Area | 10 | 10 | 100
43 CFR subpart 3283—Unit Agreement Modifications | 10 | 10 | 100
Totals | 913 |  | 5,409

Jean Sonneman,
Bureau of Land Management, Information Collection Clearance Officer.

[FR Doc. 2016-31419 Filed 12-27-16; 8:45 am]

BILLING CODE 4310-84-P